DEPARTMENT OF ENERGY

Federal Energy Regulatory Commission

[Project No. 2042-013]

Public Utility District No. 1 of Pend Oreille County; Notice Granting Late Intervention

April 4, 2002.

On July 14, 2000, the Commission issued a notice of a new major license application filed by Public Utility District No. 1 of Pend Oreille County for the Box Canyon Hydroelectric Project No. 2042-013, located on the Pend Oreille River in Pend Oreille County, Washington and Bonner County, Idaho. The notice established September 13, 2000, as the deadline for filing motions to intervene in the proceeding.

On October 3, 2000, a late motion to intervene was filed by the State of Idaho. Granting the late motion to intervene will not unduly delay or disrupt the proceeding or prejudice other parties to it. Therefore, pursuant to Rule 214,¹ the late motion to intervene filed in this proceeding by the State of Idaho is granted, subject to the Commission's rules and regulations.

¹ 18 CFR 385.214 (2001).

Linwood A. Watson, Jr.,
Deputy Secretary.

[FR Doc. 02-8650 Filed 4-9-02; 8:45 am]

BILLING CODE 6717-01-P